DEPARTMENT OF COMMERCE

Foreign-Trade Zones Board

[B-08-2020]

Foreign-Trade Zone (FTZ) 277—Glendale, Arizona; Notification of Proposed Production Activity; Andersen Regional Manufacturing, Inc. (Windows for Residential and Commercial Buildings); Goodyear, Arizona

Andersen Regional Manufacturing, Inc. (Andersen Regional) submitted a notification of proposed production activity to the FTZ Board for its facility in Goodyear, Arizona. The notification conforming to the requirements of the regulations of the FTZ Board (15 CFR 400.22) was received on January 23, 2020.

The Andersen Regional facility is located within FTZ 277. The facility will be used for production of windows for residential and commercial buildings. Pursuant to 15 CFR 400.14(b), FTZ activity would be limited to the specific foreign-status materials/components and finished product described in the submitted notification (as described below) and subsequently authorized by the FTZ Board.

Production under FTZ procedures could exempt Andersen Regional from customs duty payments on the foreign-status materials/components used in export production. On its domestic sales, for the foreign-status materials/components noted below, Andersen Regional would be able to choose the duty rates during customs entry procedures that apply to windows for residential and commercial buildings (duty rate 5.3%). Andersen Regional would be able to avoid duty on foreign-status components which become scrap/waste. Customs duties also could possibly be deferred or reduced on foreign-status production equipment.

The components and materials sourced from abroad include: Stainless steel and carbon steel screws; die cast zinc and injection molded polypropylene lock covers; aluminum extruded reinforcement bars; carbon steel gusset plates; stainless steel jamb clips; injection molded PVC and brass roller assemblies; injection molded glass reinforced nylon sash cams; injection molded polypropylene shipping protection caps; and, zinc plated steel washers (duty rate ranges from 3.5 to 6.2%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 30, 2020.

A copy of the notification will be available for public inspection in the “Reading Room” section of the Board's website, which is accessible via www.trade.gov/ftz.

For further information, contact Juanita Chen at juanita.chen@trade.gov or 202-482-1378.

Dated: February 12, 2020.
Andrew McGilvray,
Executive Secretary.

[FR Doc. 2020-03218 Filed 2-18-20; 8:45 am]

BILLING CODE 3510-DS-P